DEPARTMENT OF TRANSPORTATION

Pipeline and Hazardous Materials Safety Administration

[Docket No. PHMSA-2017-0044; Docket No. PHMSA-2017-0045; Docket No. PHMSA-2017-0046; Docket No. PHMSA-2017-0047]

Pipeline Safety: Request for Special Permit; Alaska Gasline Development Corporation

AGENCY: Pipeline and Hazardous Materials Safety Administration (PHMSA).

ACTION: Notice.

SUMMARY: PHMSA is publishing this notice to seek public comments on four special permit requests received from the Alaska Gasline Development Corporation (AGDC). AGDC is seeking compliance relief from certain requirements in the federal pipeline safety regulations for the construction of an integrated liquefied natural gas project with interdependent facilities for transporting and liquefying supplies of natural gas in Alaska.

DATES: Submit any comments regarding this special permit request by July 29, 2019.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except federal holidays.

Instructions: At the beginning of your comments, you should identify the docket number for the special permit request you are commenting on. If you submit your comments by mail, please submit two copies. To receive confirmation that PHMSA has received your comments, please include a self-addressed stamped postcard. Internet users may submit comments at http://www.Regulations.gov.

Note: Comments are posted including any personal information provided, without changes or edits to http://www.Regulations.gov. There is a privacy statement published on http://www.Regulations.gov.

FOR FURTHER INFORMATION CONTACT:

General: Ms. Kay McIver by telephone at 202-366-0113, or email at kay.mciver@dot.gov.

Technical: Mr. Joshua Johnson by telephone at 816-329-3825, or email at Joshua.Johnson@dot.gov.

SUPPLEMENTARY INFORMATION: AGDC plans to construct one integrated liquefied natural gas (LNG) project (Project) with interdependent facilities for transporting and liquefying supplies of natural gas in Alaska, from the Point Thompson Unit (PTU) and Prudhoe Bay Unit (PBU) production fields on the Alaska North Slope to the proposed LNG Liquefaction Facility located in the Kenai Peninsula of Alaska.

The overall proposed LNG Project includes:

• Approximately 807-miles of 42-inch gas pipeline (Mainline Pipeline);

• A LNG liquefaction facility located in the Kenai Peninsula Borough and Cook Inlet Area of Alaska;

• A gas treatment plant (GTP) with the Prudhoe Bay Unit (PBU) on the North Slope;

• Approximately 63-mile gas transmission line connecting the GTP to the PTU gas production facility, and

• Approximately 1-mile gas transmission line connecting GTP to the PBU gas production facility.

The route of the 42-inch pipeline originates in the North Slope Borough and traverses the Yukon-Koyukuk Census Area, the Fairbanks North Star Borough, the Denali Borough, the Matanuska-Susitna Borough, the Kenai Peninsula Borough, and terminates at the LNG Liquefaction Facility. The LNG Project will offer natural gas that has been processed into LNG for export in foreign commerce and opportunities for in-state deliveries of natural gas. The maximum allowable operating pressure (MAOP) of the Mainline Pipeline will be 2,075 psi. The Mainline Pipeline is essential for the export of natural gas in foreign commerce and will have a nominal design life of 30 years.

PHMSA has received four special permit requests from the AGDC seeking relief from compliance with certain Federal pipeline safety regulations. The requests apply to the following areas:

(1) Strain Based Design;

(2) Transmission Mainline Block Valve Spacing;

(3) Crack Arrestor Spacing; and

(4) Three-Layer Polyethylene Coating.

Each request includes technical analysis, draft special permit conditions, draft environmental assessments, and location maps (other details deemed necessary) provided by the operator and filed at http://www.Regulations.gov, under the assigned docket numbers. We invite interested persons to participate by reviewing these special permit requests and their associated draft environmental assessments and a PHMSA prepared draft special permit with conditions at http://www.Regulations.gov, and by submitting written comments, data or other views. Please include any comments on potential safety and environmental impacts that may result if these special permits are granted.

Before issuing a decision on these special permit requests, PHMSA will evaluate all comments received on or before the 60-day comment period closing date. If it is possible to do so without incurring additional expense or delays, comments received after the closing date will be evaluated.

The four special permit requests are as follows:

Docket No. | Requester | Regulation(s) | Nature of special permit
PHMSA-2017-0044 | Alaska Gasline Development Corporation (AGDC) | 49 CFR 192.103, 192.105, 192.317, and 192.620 | To authorize AGDC to use Strain-Based Design (SBD) for the construction of discrete and specified segments of the pipeline. The proposed SBD segments would consist of a 42-inch diameter pipe with a 0.862-inch wall thickness, constructed in accordance with API 5L Grade X70 specifications. The segments are in the Yukon-Kuyokuk and Denali boroughs, are entirely within Class 1 locations, and not in any high consequence areas.
|  |  | The Project will be a new 42-inch diameter natural gas pipeline of approximately 807 miles. It will originate at the Gas Treatment Plant on the Alaska North Slope site and terminate at the LNG Liquefaction Facility in the Cook Inlet, Alaska.
|  |  | The proposed SBD segments would have a MAOP of 2,075 psi. 49 CFR 192.103 requires pipe to be designed with sufficient wall thickness, or must be installed with adequate protection, to withstand anticipated external pressures and loads that will be imposed on the pipe after installation.
PHMSA-2017-0045 | Alaska Gasline Development Corporation (AGDC) | 49 CFR 192.197(a)(4) | To authorize AGDC to use alternatives to mainline block valve spacing of up to 50 miles in the very sparsely populated region north of Fairbanks borough in Alaska, and up to 30 miles spacing south of Fairbanks in Class 1 locations. 49 CFR 192.179(a)(4) requires a maximum Class 1 location valve spacing of 20-miles.
PHMSA-2017-0046 | Alaska Gasline Development Corporation (AGDC) | 49 CFR 192.112(f)(1) | To authorize AGDC to use three-layer polyethylene coatings on all Mainline pipeline segments that are built to comply with alternative MAOP requirements. 49 CFR 192.112(f)(1) requires a non-shielding external pipe coating.
PHMSA-2017-0047 | Alaska Gasline Development Corporation (AGDC) | 49 CFR 192.112(b) | To authorize AGDC to use crack arrestor spacing of up to 1,600 feet on all Mainline pipeline segments that are built to comply with alternative MAOP pressure requirements. 49 CFR 192.112(b)(2)(iii) gives requirements for fracture arrest based upon pipe lengths. 49 CFR 192.112(b)(3) outlines alternative arrest methods.

Issued in Washington, DC, on May 22, 2019, under authority delegated in 49 CFR 1.97.
Alan K. Mayberry,
Associate Administrator for Pipeline Safety.

[FR Doc. 2019-11041 Filed 5-24-19; 8:45 am]

BILLING CODE 4910-60-P